COMMISSION ON CIVIL RIGHTS

Agenda and Notice of Public Meeting of the Arizona Advisory Committee

Notice is hereby given, pursuant to the provisions of the rules and regulations of the U.S. Commission on Civil Rights, that a meeting of the Arizona Advisory Committee to the Commission will convene at 9 a.m. and adjourn at 1 p.m. on Friday, March 7, 2003, at the Crowne Plaza Hotel (Metro Center), 2532 West Peoria, the Executive Board Room, Phoenix, Arizona 85029. The purpose of the meeting is to plan a follow-up to the 1997 report on civil rights problems along the United States/Mexico border. The report is: Federal Immigration Law Enforcement in the Southwest: Civil Rights Impacts on Border Communities. Four states will be involved.

Persons desiring additional information, or planning a presentation to the Committee, should contact Philip Montez, Director of the Western Regional Office, 213-894-3437 (TDD 213-894-3435). Hearing-impaired persons who will attend the meeting and require the services of a sign language interpreter should contact the Regional Office at least ten (10) working days before the scheduled date of the meeting.

The meeting will be conducted pursuant to the provisions of the rules and regulations of the Commission.

Dated at Washington, DC, January 24, 2003.
Ivy L. Davis,
Chief, Regional Programs Coordination Unit.

[FR Doc. 03-2186 Filed 1-29-03; 8:45 am]

BILLING CODE 6335-01-P